DEPARTMENT OF TRANSPORTATION

Federal Aviation Administration

Waiver of Aeronautical Land Use Assurance: Newton City-County Airport (EWK), Newton, KS

AGENCY: Federal Aviation Administration (FAA), DOT.

ACTION: Notice of Intent of Waiver with respect to land use change from aeronautical to non-aeronautical.

SUMMARY: The Federal Aviation Administration (FAA) is considering a proposal from the City of Newton (sponsor), Newton, KS, to release two parcels of land, a Northern Tract (8.31 acres) and a Southern Tract (3.11 acres) from the federal obligation dedicating it to aeronautical use and to authorize this parcel to be used for revenue-producing, non-aeronautical purposes.

DATES: Comments must be received on or before December 18, 2019.

ADDRESSES: Comments on this application may be mailed or delivered to the FAA at the following address: Amy J. Walter, Airports Land Specialist, Federal Aviation Administration, Airports Division, ACE-620G, 901 Locust Room 364, Kansas City, MO 64106.

In addition, one copy of any comments submitted to the FAA must be mailed or delivered to: Suzanne Loomis, P.E., City Engineer/Director Public Works, City of Newton, 201 East Sixth, P.O. Box 426, Newton, KS 67114-0426, (316) 284-6020.

FOR FURTHER INFORMATION CONTACT: Amy J. Walter, Airports Land Specialist, Federal Aviation Administration, Airports Division, ACE-620G, 901 Locust Room 364, Kansas City, MO 64106, Telephone number (816) 329-2603, Fax number (816) 329-2611, email address: amy.walter@faa.gov.

SUPPLEMENTARY INFORMATION: The FAA invites public comment on the request to change two parcels of land, 8.31 acres and 3.11 acres respectively, of airport property at the Newton City-County Airport (EWK) from aeronautical use to non-aeronautical for revenue producing use. The parcels of land are located along the Southwest corner of the airport, at the corner of 5th Street and Oliver Road. These parcels will be leased to Park Aerospace.

No airport landside or airside facilities are presently located on this parcel, nor are airport developments contemplated in the future. There is no current use of the surface of the parcel. The parcel will serve as a revenue producing lot with the proposed change from aeronautical to non-aeronautical. The request submitted by the Sponsor meets the procedural requirements of the Federal Aviation Administration and the change to non-aeronautical status of the property does not and will not impact future aviation needs at the airport. The FAA may approve the request, in whole or in part, no sooner than thirty days after the publication of this Notice.

The following is a brief overview of the request:

The Newton City-County Airport (EWK) is proposing the use release of two parcels of land, 8.31 acres and 3.11 acres respectively, more or less from aeronautical to non-aeronautical. The use release of land is necessary to comply with Federal Aviation Administration Grant Assurances that do not allow federally acquired airport property to be used for non-aviation purposes. The rental of the subject property will result in the land at the Newton City-County Airport (EWK) being changed from aeronautical to non-aeronautical use and release the lands from the conditions of the Airport Improvement Program Grant Agreement Grant Assurances. In accordance with 49 U.S.C. 47107(c)(2)(B)(i) and (iii), the airport will receive fair market rental value for the property. The annual income from rent payments will generate a long-term, revenue-producing stream that will further the Sponsor's obligation under FAA Grant Assurance number 24, to make the Newton City-County Airport as financially self-sufficient as possible. Following is a legal description of the subject airport property at the Newton City-County Airport (EWK):

Northern Tract

Commencing at the Southwest corner of said SW/4; thence North along the West line of said SW/4 1901.31 feet; thence with a deflection angle 90°01′04″ right-East 75.00 feet (which is to a point that is 50.00 feet south of the centerline of the now existing Hesston College driveway) for the point of beginning; thence continuing East without deflection 544.29 feet; thence with a deflection angle 89°58′56″ right-South parallel with the West line of said SW/4 664.71 feet; thence with a deflection angle 90°01′04″ right-West 544.29 feet to a point that is 75.00 feet East of the West line of said SW/4; thence with a deflection angle 89°58′56″ right-North parallel with the West line of said SW/4 664.71 fee to the point of beginning; containing 8.31 acres, more or less.

Southern Tract

Commencing at the Southwest corner of said SW/4; thence North along the West line of said SW/4 1901.31 feet; thence with a deflection angle 90°01′04″ right-East 75.00 feet (which is to a point that is 50.00 feet south of the centerline of the now existing Hesston College driveway); thence continuing East without deflection 544.29 feet; thence with a deflection angle 89°58′56″ right-South parallel with the West line of said SW/4 664.71 feet for a point of beginning; thence continuing South without deflection and parallel with the West line of said SW/4 249.25 feet; thence with a deflection angle 90°01′04″ right-West 544.29 feet to a point that is 75.00 feet East of the West line of said SW/4; thence with a deflection angle 89°58′56″ right-North parallel with the West line of said SW/4 249.25 feet; thence with a deflection angle 90°01′04″ right-East 544.29 feet to the point of beginning; containing 3.11 acres, more or less.

Any person may inspect, by appointment, the request in person at the FAA office listed above FOR FURTHER INFORMATION CONTACT. In addition, any person may, upon appointment and request, inspect the application, notice and other documents determined by the FAA to be related to the application in person at the Newton City-County Airport.

Issued in Kansas City, MO, on November 8, 2019.
Jim A. Johnson,
Director, FAA Central Region, Airports Division.

[FR Doc. 2019-24986 Filed 11-15-19; 8:45 am]

BILLING CODE 4910-13-P